DEPARTMENT OF COMMERCE

National Oceanic and Atmospheric Administration

[I.D. 020404A]

Endangered and Threatened Species; Take of Anadromous Fish

AGENCY: National Marine Fisheries Service (NMFS), National Oceanic and Atmospheric Administration (NOAA), Commerce.

ACTION: Applications for four scientific research permits and two permit modifications.

SUMMARY: Notice is hereby given that NMFS has received four permit applications and two applications to modify existing scientific research permits relating to Pacific salmon and steelhead. All of the proposed research is intended to increase knowledge of species listed under the Endangered Species Act (ESA) and to help guide management and conservation efforts.

DATES: Comments or requests for a public hearing on the applications or modification requests must be received at the appropriate address or fax number (see ADDRESSES) no later than 5 p.m. Pacific daylight-saving time on March 15, 2004.

ADDRESSES: Written comments on the applications or modification requests should be sent to Protected Resources Division, NMFS, F/NWO3, 525 NE Oregon Street, Suite 500, Portland, OR 97232-2737. Comments may also be sent via fax to (503) 230-5435. E-mail comments may be submitted via the Internet to lamont.jackson@noaa.gov.

FOR FURTHER INFORMATION CONTACT: Garth Griffin, Portland, OR ph.: (503) 231-2005, Fax: (503) 230-5435, e-mail: Garth.Griffin@noaa.gov. Permit application instructions are available at http://www.nwr.noaa.gov

SUPPLEMENTARY INFORMATION:

Species Covered in This Notice

The following listed species and evolutionarily significant units (ESUs) are covered in this notice:

Sockeye salmon (Oncorhynchus nerka): endangered Snake River (SR), threatened Ozette Lake.

Chinook salmon (O. tshawytscha): endangered natural and artificially propagated upper Columbia River (UCR); threatened natural and artificially propagated SR spring/summer; threatened SR fall; threatened lower Columbia River (LCR); threatened artificially produced Puget Sound (PS); threatened upper Willamette River (UWR).

Chum salmon (O. keta): threatened Columbia River (CR).

Steelhead (O. mykiss): threatened SR; threatened middle Columbia River (MCR); endangered UCR.

Coho Salmon (O. kisutch): threatened Oregon coast (OC); threatened Southern Oregon/Northern California Coast (SONCC).

Authority

Scientific research permits are issued in accordance with section 10(a)(1)(A) of the ESA (16 U.S.C. 1531 et. seq) and regulations governing listed fish and wildlife permits (50 CFR 222-226). NMFS issues permits/modifications based on findings that such permits and modifications: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). The holding of such a hearing is at the discretion of the Assistant Administrator for Fisheries, NOAA.

Permit Applications Received

Permit 1152 Modification 1

The Oregon Department of Fish and Wildlife (ODFW) is asking to modify Permit 1152 to take into account changes in take levels and to include take for salmonid rescue and salvage activities. The permit currently covers six projects that, among them, annually take juvenile and adult threatened SR spring/summer chinook salmon and adult and juvenile threatened SR steelhead in Northeast OR. They are: Project 1 Northeast Oregon Spring Chinook Salmon Spawning Ground Surveys; Project 2 Spring Chinook Salmon and Steelhead Life History in the Grande Ronde River Basin; Project 3 Residual hatchery Steelhead Monitoring in Northeast Oregon; Project 4 Passage and Irrigation Screening; Project 5 Bull Trout Migratory patterns, Population Structure, and Abundance in the Blue Mountains Province (does not target listed species but may indirectly take them); and Project 6 Fish Distribution and Abundance Monitoring in Northeast Oregon. These tasks have remained essentially unchanged for a number of years (permit 1152 has been in place since 1997 and was renewed in 2003); under this permit, listed salmon and steelhead are variously (a) observed during fish population and production monitoring surveys; (b) captured (using seines, trawls, traps, hook-and-line angling equipment, and electrofishing equipment) and anesthetized; (c) sampled for biological information and tissue samples; (d) PIT-tagged or tagged with radio transmitters or other identifiers; and (e) released. The only changes in activity being requested are an increase in the number of fish to be sampled and an approval for rescuing or salvaging listed fish that need it (an activity for which the researchers had approval in a previous version of the permit). The ODFW does not intend to kill any of the fish, but some may die as an unintended result of the research activities.

The research has many purposes and would benefit listed salmon and steelhead in different ways. In general, the purpose of the proposed research is to gather information on the natural production, distribution, survival, resource and habitat use, and genetic and life history characteristics of listed chinook salmon and steelhead in Northeast OR. If allowed to continue, the research activities would provide ongoing benefits to listed salmon and steelhead by helping resource managers (a) guide recovery actions, (b) prioritize habitat protection and restoration projects, (c) monitor ongoing management activities, (d) evaluate supplementation efforts, and (d) provide effective screening on water diversions that might otherwise entrain, strand, and kill listed fish.

Permit 1410 - Modification 1

The Northwest Fisheries Science Center (NWFSC) is asking to modify Permit 1410 to take into account needed changes in take levels. They are asking to increase their take of juvenile and adult SONCC coho, juvenile and adult OC coho, juvenile PS chinook salmon, juvenile and adult SR spring/summer chinook salmon, juvenile SR fall chinook salmon, juvenile and adult UCR chinook salmon, juvenile and adult LCR chinook salmon, juvenile and adult UWR chinook salmon, juvenile CR chum salmon, juvenile Ozette Lake sockeye salmon, and juvenile SR steelhead during an ongoing investigation on the distribution, abundance, condition, and health of juvenile salmon in relation to oceanographic conditions in the Columbia River plume and surrounding ocean environment. The purpose of the study is to help researchers and managers better understand the factors controlling estuarine and marine survival. The study will provide information to help forecast survival potential as a function of plume and ocean conditions. Further, the information will help hydropower operators develop a set of management scenarios that could benefit survival, growth, and health of juvenile salmon by changing the dynamics of the Columbia River plume. The NWFSC is requesting authorization to intentionally kill juvenile fish for endocrine assessments, genetic stock identification, pathogen prevalence and intensity, otolith and stomach content analysis, and histopathological attributes. The NWFSC does not intend to kill any of the adult fish being captured, but some may die as an unintended result of the research activities.

Permit 1458

Ducks Unlimited is seeking a 5-year permit to annually take juvenile SR spring/summer chinook salmon at up to six locations in the Grande Ronde and Wallowa River drainages in Oregon. Under the study, the fish would be trapped, anesthetized, weighed and measured, allowed to recover, and released back from which they were taken.

The purpose of the research is to describe native and introduced fish use especially by salmonids of floodplain wetland habitat. Ultimately, the research seeks to answer questions relating to patterns of habitat use across the region on a seasonal basis and evaluate fish passage through water control structures used in wetland restoration projects. The research will benefit the listed species by helping guide wetland restoration activities throughout the region. Ducks Unlimited does not intend to kill any of the fish being captured, but a small number may die as an unintended result of the activities.

Permit 1459

The Western Washington University (WWU) is asking for a 1-year permit to take juvenile propagated PS chinook salmon associated with a larger project NOAA is conducting to understand juvenile salmonid use of Puget Sound nearshore estuarine habitats. The purpose of the research is to determine which fish use eelgrass beds in Northern Puget Sound and thereby benefit listed fish by helping direct habitat conservation efforts. The WWU will collect samples using gill nets, enclosure nets, and trawl gear. Samples will be measured, weighed, and released. A small percentage of the fish to be handled may die as an unintended result of the research activities.

Permit 1460

The Port of Tacoma is asking for a 3-year permit to annually take juvenile PS chinook salmon associated with a study to determine the timing of juvenile chinook salmon migration within Commencement Bay, Tacoma, WA. The purpose of the study is to supplement existing data regarding allowable periods for in-water construction. It will benefit listed salmon by helping ensure that in-water construction takes place at times least likely to affect the fish. The Port of Tacoma will collect samples using a floating beach seine. Listed salmon will be captured, measured, and released at the sampling locations. The Port of Tacoma does not intend to kill any of the fish being captured, but a small number may die as an unintended result of the activities.

Permit 1461

The U.S. Geological Survey (USGS) is seeking a 5-year permit to annually take adult and juvenile LCR, UCR, and SR spring/summer and fall chinook salmon; CR chum; SR sockeye; and UCR, MCR, LCR, and SR steelhead at Crims Island and the Julia Butler Hanson National Wildlife Refuge in the lower Columbia River. The fish would be captured using nets, and boat- and backpack electrofishing equipment. Once captured, the fish would be variously anesthetized, weighed and measured, sampled for their stomach contents, implanted with passive integrated transponder tags, allowed to recover, and released. Not all fish would undergo all these procedures. For example, all adults would simply be released, and the diet sampling and tagging would largely be restricted to those ESUs that spawn in the lower Columbia River.

The purpose of the research is to determine fish species composition and habitat use in the areas sampled. Ultimately, the data gathered will be used to guide and determine the effectiveness of habitat restoration activities in the lower Columbia River. The species will benefit from well-planned and monitored habitat restoration activities as well as, ultimately, the restored habitat itself. The USGS does not intend to kill any of the fish being captured, but a small number may die as an unintended result of the activities though none will be adults.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: February 5, 2004.
David O'Brien,
Acting Chief, Endangered Species Division, Office of Protected Resources, National Marine Fisheries Service.

[FR Doc. 04-3280 Filed 2-12-04; 8:45 am]

BILLING CODE 3510-22-S